DEPARTMENT OF TRANSPORTATION

Federal Aviation Administration

Notice of Extension of the Public Comment Period for the O'Hare Modernization Draft Environmental Impact Statement, Chicago O'Hare International Airport, Chicago, IL

AGENCY: Federal Aviation Administration, DOT.

ACTION: Extension of public comment period.

SUMMARY: This notice advises the public that the comment period for the O'Hare Modernization Draft Environmental Impact Statement (DEIS) Chicago O'Hare International Airport, Chicago, Illinois, is extended.

DATES: The comment period of the DEIS, ending on March 23, 2005, is extended to April 6, 2005.

SUPPLEMENTARY INFORMATION: By notice dated January 21, 2005, the Federal Aviation Administration (FAA) announced the availability of the DEIS for the Chicago O'Hare International Airport. In that notice, the FAA described the schedule for public hearings regarding the DEIS and advised that the public comment period would close Wednesday, March 23, 2005. The public hearings were held as scheduled on February 22, 23, and 24, 2005.

As set forth in the January 21, 2005, notice, all comments are to be submitted to Michael W. MacMullen of the FAA, at the address shown below.

FOR FURTHER INFORMATION CONTACT: Michael W. MacMullen, Airports Environmental Program Manager, Federal Aviation Administration, Chicago Airports District Office, 2300 East Devon Avenue, Des Plaines, IL 60018. Telephone: 847-294-8339, Fax: 847-7046; e-mail address: ompeis@faa.gov.

Issued in Washington, DC, on March 7, 2005.
Rebecca B. MacPherson,
Assistant Chief Counsel for Regulations.

[FR Doc. 05-4800 Filed 3-8-05; 11:04 am]

BILLING CODE 4910-13-M